DEPARTMENT OF TRANSPORTATION

Federal Railroad Administration

[Docket No. FRA-2000-7257; Notice No. 46]

Railroad Safety Advisory Committee (RSAC); Notice of Meeting

AGENCY: Federal Railroad Administration (FRA), Department of Transportation (DOT).

ACTION: Announcement of Railroad Safety Advisory Committee Meeting.

SUMMARY: FRA announces the 35th meeting of the RSAC, a federal advisory committee that develops railroad safety regulations through a consensus process. The RSAC meeting topics will include opening remarks from the FRA Administrator, presentations on the Volpe Final Report on Private Crossings and the Pressure Tank Car Proposed Rule, and an update on the FRA Risk Reduction Program. Status reports will be provided by the Passenger Safety, Locomotive Safety Standards, Railroad Bridge Safety, Medical Standards, Railroad Operating Rules, and Track Safety Standards Working Groups. This agenda is subject to change.

DATES: The RSAC meeting will be held on Wednesday, June 11, 2008, from 9:30 a.m. to 4:30 p.m.

ADDRESSES: The RSAC meeting will be held at the National Housing Center, 1201 15th Street, NW., Washington, DC 20005. The meeting is open to the public on a first-come, first-serve basis, and is accessible to individuals with disabilities. Sign and oral interpretation can be made available if requested 10 calendar days before the meeting.

FOR FURTHER INFORMATION CONTACT: Larry Woolverton, RSAC Coordinator, FRA, 1200 New Jersey Avenue, SE., Mailstop 25, Washington, DC 20590, (202) 493-6212; or Grady Cothen, Deputy Associate Administrator for Safety, FRA, 1200 New Jersey Avenue, SE., Mailstop 25, Washington, DC 20590, (202) 493-6302.

SUPPLEMENTARY INFORMATION: Pursuant to Section 10(a)(2) of the Federal Advisory Committee Act (Pub. L. 92-463), FRA is giving notice of a meeting of the Railroad Safety Advisory Committee. The RSAC was established to provide advice and recommendations to FRA on railroad safety matters. The RSAC comprises 54 voting representatives from 31 member organizations, representing various rail industry perspectives. In addition, there are nonvoting advisory representatives from agencies with railroad safety regulatory responsibility in Canada and Mexico, the National Transportation Safety Board, and the Federal Transit Administration. The diversity of the Committee ensures the requisite range of views and expertise necessary to discharge its responsibilities. See the RSAC Web site for details on pending tasks at: http://rsac.fra.dot.gov. Please refer to the notice published in the Federal Register on March 11, 1996, (61 FR 9740) for additional information about the RSAC.

Issued in Washington, DC, on May 14, 2008.
Michael J. Logue,
Deputy Associate Administrator for Safety Compliance and Program Implementation.

[FR Doc. E8-11239 Filed 5-19-08; 8:45 am]

BILLING CODE 4910-06-P